SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions to OMB-approved information collections and extensions (no change) of existing OMB-approved information collections.

SSA is soliciting comments on the accuracy of the agency's burden estimate; the need for the information; its practical utility; ways to enhance its quality, utility, and clarity; and ways to minimize the burden on respondents, including the use of automated collection techniques or other forms of information technology. Mail, email, or fax your comments and recommendations on the information collection(s) to the OMB Desk Officer and the SSA Reports Clearance Officer to the addresses or fax numbers listed below.

(OMB), Office of Management and Budget, Attn: Desk Officer for SSA, Fax: 202-395-6974, e-mail address: OIRA_Submission@omb.eop.gov.

(SSA), Social Security Administration, DCBFM,Attn: Reports Clearance Officer,1333 Annex Building,6401 Security Blvd.,Baltimore, MD 21235,Fax: 410-965-6400, e-mail address: OPLM.RCO@ssa.gov.

I. The information collections listed below are pending at SSA. SSA will submit them to OMB within 60 days from the date of this notice. Therefore, your comments would be most helpful if you submit them to SSA within 60 days from the date of this publication. Individuals can obtain copies of the collection instruments by calling the SSA Reports Clearance Officer at 410-965-0454 or by writing to the e-mail address listed above.

1. Supplement to Claim of Person Outside the United States—20 CFR 404.460, 404.463, 422.505(b), 42 CFR 407.27(c)—0960-0051. SSA uses the information collected from Form SSA-21 to determine continuing entitlement to Social Security benefits and the proper benefit amounts of alien beneficiaries living outside the United States. SSA also uses the information to determine whether benefits are subject to withholding tax. The respondents are individuals entitled to Social Security benefits who are, will be, or have been residing outside the United States.

Type of Request: Revision of an OMB-approved information collection.

Number of Respondents: 35,000.

Frequency of Response: 1.

Average Burden per Response: 10 minutes.

Estimated Annual Burden: 5,833 hours.

2. Coverage of Employees of State and Local Governments—20 CFR 404, Subpart M—0960-0425. The Code of Federal Regulations at 20 CFR 404 prescribe the rules for states submitting reports of deposits and related recordkeeping to SSA. States (and interstate instrumentalities) are required to provide wage and deposit-related contribution information for pre-1987 periods. The respondents are state and local governments or interstate instrumentalities.

Type of Request: Extension of an OMB-approved information collection.

Number of Respondents: 52.

Frequency of Response: 1.

Average Burden per Response: 1 hour.

Estimated Annual Burden: 52 hours.

3. Medical Report on Adult with Allegation of Human Immunodeficiency Virus Infection; Medical Report on Child with Allegation of Human Immunodeficiency Virus Infection—20 CFR 416.993-416.994—0960-0500. SSA uses Forms SSA-4814-F5 and SSA-4815-F6 to collect information necessary to determine if an individual with Human Immunodeficiency Virus (HIV) infection, who is applying for Supplemental Security Income (SSI) disability benefits, meets the requirements for presumptive disability payments. The respondents are the medical sources of the applicants for SSI disability payments.

Type of Request: Revision of an OMB-approved information collection.

Number of Respondents: 59,100.

Frequency of Response: 1.

Average Burden per Response: 10 minutes.

Estimated Annual Burden: 9,850 hours.

4. Application To Collect a Fee for Payee Services—20 CFR 404.2040(a), 416.640(a) 416.1103(f)—0960-0719. SSA uses Form SSA-445 to collect information to make a determination whether to authorize or deny permission to collect fees for payee services. The respondents are private sector businesses or state and local government offices applying to become a fee-for-service organizational representative payee.

Type of Request: Extension of an OMB-approved information collection.

Number of Respondents: 100.

Frequency of Response: 1.

Average Burden per Response: 10 minutes.

Estimated Annual Burden: 17 hours.

5. Request To Be Selected as a Payee—20 CFR 404.2010-404.2055, 416.601-416.665—0960-0014. An individual applying to be a representative payee for a Social Security or SSI recipient completes Form SSA-11-BK. SSA designed the form to aid the investigation of a payee applicant. SSA uses the information to establish the applicant's relationship to the beneficiary, his/her justification and his/her concern for the beneficiary, as well as the manner in which the applicant will use the benefits. The respondents are representative payee applicants for Titles II, VIII, XVI.

Type of Request: Revision of an OMB-approved information collection.

Number of Respondents: 1,500,000.

Estimated Annual Burden: 248,335 hours.

Collection method | Number of respondents | Frequency of response | Average burden per response | Total annual burden
Individuals/Households (90%):
Representative Payee System (RPS) | 135,000 | 1 | 10.5 | 23,625
RPS/Signature Proxy | 765,000 | 1 | 9.5 | 121,125
Paper Version | 450,000 | 1 | 10.5 | 78,750
Totals | 1,350,000 |  |  | 223,500
Private Sector (9%):
RPS | 13,500 | 1 | 10.5 | 2,363
RPS/Signature Proxy | 76.500 | 1 | 9.5 | 12,113
Paper Version | 45,000 | 1 | 10.5 | 7,875
Totals | 135,000 |  |  | 22,351
State/Local/Tribal Government (1%):
RPS | 1,500 | 1 | 10.5 | 263
RPS/Signature Proxy | 8,500 | 1 | 9.5 | 1,346
Paper Version | 5,000 | 1 | 10.5 | 875
Totals | 15,000 |  |  | 2,484
Grand Total: | 1,500,000 |  |  | 248,335

6. Modified Benefit Formula Questionnaire—Foreign Pension—0960-0561. SSA uses the information collected on Form SSA-308 to determine exactly how much (if any) of a foreign pension may be used to reduce the amount of Title II Social Security retirement or disability benefits under the modified benefit formula. The respondents are applicants for Title II Social Security retirement or disability benefits who have foreign pensions.

Type of Request: Revision of an OMB-approved information collection.

Number of Respondents: 50,000.

Frequency of Response: 1.

Average Burden per Response: 10 minutes.

Estimated Annual Burden: 8,333 hours.

7. Claimant's Work Background—20 CFR 404.1565(b), 20 CFR 416.965(b)—0960-0300. SSA uses the information from form HA-4633 when an individual has requested a hearing before an administrative law judge (ALJ) on the issue of whether or not he or she is disabled. The completed HA-4633 provides an updated summary of the individual's relevant work history, information the ALJ requires in assessing a claimant's disability within the meaning of the Social Security Act. The respondents are members of the public who have filed for disability benefits under Title II and/or Title XVI and have requested a hearing before an ALJ.

Type of Request: Extension of an OMB-approved information collection.

Number of Respondents: 151,000.

Frequency of Response: 1.

Average Burden per Response: 15 minutes.

Estimated Annual Burden: 37,750 hours.

II. SSA has submitted the information collections listed below. Your comments on the information collections will be most useful if OMB and SSA receive them within 30 days from the date of this publication. You can request a copy of the information collections by e-mail, OPLM.RCO@ssa.gov, fax 410-965-6400, or by calling the SSA Reports Clearance Officer at 410-965-0454.

1. Statement Regarding Date of Birth and Citizenship—20 CFR 404.716—0960-0016. Form SSA-702 collects information needed when preferred or other evidence is not available to prove age or citizenship for an individual applying for Social Security benefits. SSA uses the information to establish age as a factor of entitlement to Social Security benefits or U.S. citizenship as a payment factor. Respondents are individuals with knowledge about the date of birth and/or citizenship of applicants for one or more Social Security benefits who need to establish their dates of birth as a factor of entitlement or U.S. citizenship as a factor of payment.

Type of Request: Extension of an OMB-approved information collection.

Number of Respondents: 1,200.

Frequency of Response: 1.

Average Burden per Response: 10 minutes.

Estimated Annual Burden: 200 hours.

2. Application for Benefits under a U.S. International Social Security Agreement—20 CFR 404.1925—0960-0448. SSA uses information from Form SSA-2490-BK to determine entitlement to Social Security benefits from the United States or from a country that has entered into a Social Security agreement with the United States. The respondents are individuals who are applying for old age, survivors or disability benefits from the United States or from a Totalization agreement country.

Type of Request: Extension of an OMB-approved information collection.

Number of Respondents: 26,700.

Frequency of Response: 1.

Average Burden per Response: 30 minutes.

Estimated Average Burden: 13,350 hours.

3. Plan for Achieving Self-Support—20 CFR 416.110(e), 416.1180-1182, 416.1225-1227—0960-0559. SSA collects the information on Form SSA-545 when an SSI applicant/recipient desires to use available income and resources to obtain education and/or training in order to become self-supportive. SSA uses the information to evaluate the recipient's plan for achieving self-support to determine whether to approve the plan under the provisions of the SSI program. The respondents are SSI applicants/recipients who are blind or disabled and want to develop a plan to go to work.

Type of Request: Extension of an OMB-approved information collection.

Number of Respondents: 7,000.

Frequency of Response: 1.

Average Burden per Response: 2 hours.

Estimated Annual Burden: 14,000 hours.

4. Authorization to Disclose Information to Social Security Administration—20 CFR 404.1512 & 20 CFR 416.912—0960-0623. SSA must obtain sufficient medical evidence to make eligibility determinations for Social Security disability benefits and SSI payments. For SSA to obtain medical evidence, an applicant must authorize his or her medical source(s) to release the information to SSA. The applicant may use Form SSA-827 to provide consent for the release of information. Generally, the State Disability Determination Service completes the form(s) based on information provided by the applicant, and sends the form(s) to the designated medical source(s). The respondents are applicants for Title II benefits and Title XVI payments.

Type of Request: Revision of a currently approved information collection.

Reading, Signing, and Dating the 1st SSA-827 (10 Minutes)
Total respondents | Number of reports by each respondent | Total annual responses | Estimated number of minutes per response | Total burden hours
3,853,928 | 1 | 3,853,928 | 10 | 642,321

Signing and Dating Three Additional SSA-827s
Total respondents | Number of reports by each respondent | Total annual responses | Estimated number of minutes per response | Total burden hours
3,853,928 | 3 | 11,561,784 | 1 | 192,696

Reading the Explanation of the SSA-827 on the Internet
Total respondents | Number of reports by each respondent | Total annual responses | Estimated number of minutes per response | Total burden hours
586,232 | 1 | 586,232 | 3 | 29,312

Collectively:

Number of Respondents: 3,853,928.

Frequency of Response (Average per case): 4.

Average Burden per Response: 13 minutes to complete all 4 forms.

Average Burden to Read Internet Instructions: 3 minutes.

Estimated Annual Burden for Reading Internet Explanation: 29,312.

Estimated Annual Burden to read instructions and complete the form: 864,329 hours.

5. Review of the Disability Hearing Officer's Reconsidered Determinations Before It Is Issued—20 CFR 404.913-404.918, 404.1512-404.1515, 404.1589, 416.912-416.915, 416.989, 416.1413-416.1418, 404.918(d) and 416.1418(d)—0960-0709. When SSA approves a claim for Social Security disability benefits or SSI payments, it periodically conducts a continuing disability review (CDR) during which the agency reviews the claimant's status to see if his/her condition has improved to the point where the claimant is capable of working. If SSA notifies a claimant that the agency will cease paying benefits, the claimant may appeal that determination. The first appeal gives the claimant the opportunity for a full evidentiary hearing before a disability hearing officer (DHO). A federal component reviews a small sample of the DHO's determinations. It is rare for the reviewing component to reverse a DHO determination favorable to the claimant. Before SSA can produce the unfavorable determination, the claimant has 10 days to provide a written statement explaining why SSA should not stop payments. That written statement is the information collected in this process. Respondents are CDR claimants whose benefits are going to cease.

Type of Request: Extension of an OMB-approved information collection.

Number of Respondents: 8.

Frequency of Response: 1.

Average Burden per Response: 60 minutes.

Estimated Annual Burden: 8 hours.

6. Farm Arrangement Questionnaire—20 CFR 404.1082(c)—0960-0064. When self-employed workers submit earnings data to SSA, they cannot count rental income from a farm unless they demonstrate “material participation” in the farm's operation. A material participation arrangement means the farm owners who are seeking to have earnings counted by SSA must perform a combination of physical duties, management decisions, and capital investment in the farm they are renting out. In such cases, SSA uses form SSA-7157, the Farm Arrangement Questionnaire, to document material participation. The respondents are workers who are renting farmland to other people and who are involved in the operation of the farm and want to claim countable income from their work there.

Type of Request: Extension of an OMB-approved information collection.

Number of Respondents: 38,000.

Frequency of Response: 1.

Average Burden per Response: 30 minutes.

Estimated Annual Burden: 19,000 hours.

7. Disability Update Report—20 CFR 404.1589-.1595, 416.988-.996—0960-0511. SSA periodically reviews current disability cases to determine if the recipients should continue to receive disability payments. In cases where these reviews indicate beneficiaries might have experienced a medical improvement, SSA must investigate further. The agency uses form SSA-455/SSA-455-OCR-SM, the Disability Update Report, for this purpose. Specifically, SSA uses the information it gathers on this form to determine if (1) there is enough evidence to warrant referring the beneficiary for a full medical CDR (2) the beneficiary's impairment has not changed enough to warrant a CDR; or (3) there are unresolved work-related issues for the beneficiary. The respondents are Title II and Title XVI disability payment recipients.

Type of Request: Extension of an OMB-approved information collection.

Number of Respondents: 880,000.

Frequency of Response: 1.

Average Burden per Response: 15 minutes.

Estimated Annual Burden: 220,000 hours.

Dated: September 10, 2008.
Elizabeth A. Davidson,
Reports Clearance Officer, Social Security Administration.

[FR Doc. E8-21591 Filed 9-16-08; 8:45 am]

BILLING CODE 4191-02-P